DEPARTMENT OF THE INTERIOR

Office of the Secretary

[Docket No. FWS-HQ-FAC-2013-0118; FXFR13360900000-134-FF09F14000]

National Environmental Policy Act: Implementing Procedures; Addition to Categorical Exclusions for U.S. Fish and Wildlife Service

AGENCY: Department of the Interior.

ACTION: Notice; reopening of comment period.

SUMMARY: This notice announces a reopening of the public comment period on the proposed categorical exclusion under the National Environmental Policy Act (NEPA) for the U.S. Fish and Wildlife Service. The proposed categorical exclusion pertains to adding species to the injurious wildlife list under the Lacey Act. The addition of this categorical exclusion to the Department of the Interior's Departmental Manual will improve conservation activities by making the NEPA process for listing injurious species more efficient. If you have previously submitted comments, please do not resubmit them because we have already incorporated them in the public record and will fully consider them in our final decision.

DATES: We will consider comments we receive on or before February 21, 2014.

ADDRESSES: Comments may be submitted by one of the following methods:

• Federal eRulemaking Portal: http://www.regulations.gov. Follow the instructions for submitting comments to Docket No. FWS-HQ-FAC-2013-0118.

• U.S. mail or hand-delivery: Public Comments Processing, Attn: Docket No. FWS-HQ-FAC-2013-0118; Division of Policy and Directives Management; U.S. Fish and Wildlife Service; 4401 N. Fairfax Drive, MS-2042-PDM; Arlington, VA 22203.

Comments will not be accepted by email or fax. All comments will be posted on http://www.regulations.gov. This generally means that any personal information provided will be posted (see the Public Comments section below for more information). All comments that were submitted previously to prevent_invasives@fws.gov that were specified in the subject heading as “Categorical Exclusion” or that were submitted by mail or hand-delivered to the address specified in the notices for the previous public comments will also be posted on http://www.regulations.gov.

Document availability: You may view the proposed categorical exclusion to the Departmental Manual and supporting documents at http://www.regulations.gov at Docket No. FWS-HQ-FAC-2013-0118 (78 FR 39307; July 1, 2013).

FOR FURTHER INFORMATION CONTACT: Susan Jewell, U.S. Fish and Wildlife Service, 4401 N. Fairfax Drive, Arlington, VA 22203; telephone 703-358-2416. If you use a telecommunications device for the deaf, please call the Federal Information Relay Service at 800-877-8339.

SUPPLEMENTARY INFORMATION:

Background

On July 1, 2013, the Department of the Interior published a notice in the Federal Register (78 FR 39307) proposing to add a categorical exclusion under NEPA to the Departmental Manual for the U.S. Fish and Wildlife Service (Service). The 30-day comment period for the notice ended on July 31, 2013. We received requests to allow more time for public comments. Therefore, on August 16, 2013, the Department of the Interior published a notice in the Federal Register (78 FR 50079) reopening the public comment period for an additional 60 days. That comment period ended on October 15, 2013. On October 30, 2013, the Service notified the public via its Web site that it would accept public comments until November 8, 2013.

With this notice, the Department of the Interior is reopening the comment period again, but this time directing comments to http://www.regulations.gov. The previous notices instructed the public, if choosing to submit comments electronically, to submit their comments to a Service email address (prevent_invasives@fws.gov). Although this method is acceptable, we utilized different forums to announce comment period extensions and experienced some unanticipated technical difficulties posting the public comments on our Web site. Therefore, the Service is reopening the comment period to allow interested members of the public an additional opportunity to provide meaningful comment on this proposal.

Public Comments

We request that you provide comments specifically on our proposed categorical exclusion and related documents available on http://www.regulations.gov under Docket No. FWS-HQ-FAC-2013-0118. The notice for the proposed categorical exclusion, the notice for the first reopening period, this notice, and previous public comments received are available under Docket No. FWS-HQ-FAC-2013-0118.

Any comments to be considered on this proposed addition to the list of categorical exclusions in the Departmental Manual must be received by the date listed in DATES at the location listed in ADDRESSES. Comments received after that date will not be considered. Comments, including names and addresses of respondents, will be posted at http://www.regulations.gov. Before including your address, telephone number, email address, or other personal identifying information in your comment, you should be aware that your entire comment, including your personal identifying information, may be made publicly available at any time. While you can ask us in your comment to withhold your personal identifying information from public review, we cannot guarantee that we will be able to do so.

If you have previously submitted comments on this proposed categorical exclusion, please do not resubmit them, because we have already incorporated them in the public record and will fully consider them in our final decision. Comments we received on this proposal after the close of the second comment period (ending October 15, 2013) and by midnight (Eastern Time) of the day before the opening of this third comment period January 22, 2014 at the locations listed in ADDRESSES for the second comment period (78 FR 50079; August 16, 2013) will still be accepted and considered.

Dated: January 13, 2014.
Willie R. Taylor,
Director, Office of Environmental Policy and Compliance.

[FR Doc. 2014-01144 Filed 1-21-14; 8:45 am]

BILLING CODE 4310-55-P